DEPARTMENT OF THE INTERIOR

National Park Service

[NPS-WASO-NAGPRA-NPS0030598; PPWOCRADN0-PCU00RP14.R50000]

Notice of Inventory Completion: Bruce Museum, Inc., Greenwich, CT

AGENCY: National Park Service, Interior.

ACTION: Notice.

SUMMARY: The Bruce Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Bruce Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Bruce Museum at the address in this notice by September 10, 2020.

ADDRESSES: Kirsten J. Reinhardt, NAGPRA Coordinator, Bruce Museum Inc., 1 Museum Drive, Greenwich, CT 06830, telephone (203) 413-6770, email kreinhardt@brucemuseum.org.

SUPPLEMENTARY INFORMATION: Notice is here given in accordance with the Native American Graves Protection and Repatriation Act (NAGPRA), 25 U.S.C. 3003, of the completion of an inventory of human remains and associated funerary objects under the control of the Bruce Museum Inc., Greenwich, CT. The human remains and associated funerary objects were removed from Goat Rock Dam Site, Lee County, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Bruce Museum professional staff in consultation with representatives of the Alabama-Coushatta Tribe of Texas (previously listed as Alabama-Coushatta Tribes of Texas); Alabama-Quassarte Tribal Town; Coushatta Tribe of Louisiana; and The Muscogee (Creek) Nation (hereafter referred to as “The Consulted Tribes”).

History and Description of the Remains

At an unknown date, human remains representing, at minimum, one individual were removed from Lee County, AL. The human remains, together with associated funerary objects, were donated to the Bruce Museum in April 1956, by sisters Elizabeth Barton and Edith Hoisington, who were active in the Ernest Thompson Seton Woodcraft Indian organization. Based on museum records, the site from which the human remains and objects were collected may reasonably be located on the west bank of the Chattahoochee River, near the outlet of Soap Creek, and in the vicinity of the Goat Rock Dam. Exhibition labels and accession cards read: “From a burial uncovered in the excavations of the Goat River (sic) Dam in Alabama.” Goat Rock Dam, located on the Chattahoochee River, was completed in 1912, and created Goat Rock Lake. The caption on an undated photograph associated with this collection reads, “The Creek at Indian Mound, Alabama, where the Cranium and pieces of pottery were found,” and in the background of the photo, the dam is visible. Tchuko `Lako, a Lower Creek town on the Chattahoochee River settled by Okfuskee Indians, may reasonably be identified with a mound and village site located near the mouth of the Waucooche Creek, just north of Goat Rock Dam. The Okfuskee, a Muscogee tribe, formed part of the former Creek (Muscogee) Confederacy in Alabama prior to their removal to the Indian Territory during the 1830s.

The human remains were determined to be Native American by Connecticut State Archaeologist, Nicholas Bellantoni, who performed a skeletal and dentition analysis on October 25, 1995, together with Ed Sarabia, Tlingit, Indian Affairs Coordinator, Connecticut Commission on Indian Affairs. The human remains are comprised of one cranial vault (frontal, left and right parietal partial occipital bones), and belong to a male 40-50 years old. No known individual was identified. The 32 associated funerary objects are 28 potsherds, three lithic implements, and one ceramic disk or gaming piece. The presence of pottery suggests a Woodland/Mississippian date for the human remains.

Geographical, oral traditional, and archeological information, in addition to the known historical presence of the Muscogee (Creek) Nation in the area encompassing the State of Alabama, support a relationship of shared group identity which can be reasonably traced between the present-day Muscogee (Creek) Nation and the pre-contact confederacy known as the Lower Creeks, who established Etulwas (tribal towns) along the Chattahoochee River in the region of present-day Lee County.

Determinations Made by the Bruce Museum, Inc.

Officials of the Bruce Museum, Inc. have determined that:

• Pursuant to 25 U.S.C. 3001(9), the human remains described in this notice represent the physical remains of one individual of Native American ancestry.

• Pursuant to 25 U.S.C. 3001(3)(A), the 32 objects described in this notice are reasonably believed to have been placed with or near individual human remains at the time of death or later as part of the death rite or ceremony.

• Pursuant to 25 U.S.C. 3001(2), there is a relationship of shared group identity that can be reasonably traced between the Native American human remains and associated funerary objects and The Muscogee (Creek) Nation.

Additional Requestors and Disposition

Lineal descendants or representatives of any Indian Tribe or Native Hawaiian organization not identified in this notice that wish to request transfer of control of these human remains and associated funerary objects should submit a written request with information in support of the request Kirsten J. Reinhardt, NAGPRA Coordinator, Bruce Museum Inc.,1 Museum Drive, Greenwich, CT 06830, telephone (914) 671-9321, email kreinhardt@brucemuseum.org, by September 10, 2020. After that date, if no additional requestors have come forward, transfer of control of the human remains and associated funerary objects to The Muscogee (Creek) Nation may proceed.

The Bruce Museum, Inc. is responsible for notifying The Consulted Tribes that this notice has been published.

Dated: July 7, 2020.
Melanie O'Brien,
Manager, National NAGPRA Program.

[FR Doc. 2020-17488 Filed 8-10-20; 8:45 am]

BILLING CODE 4312-52-P